SECURITIES AND EXCHANGE COMMISSION

[Release No. 34-58053; File No. SR-NSCC-2008-03]

Self-Regulatory Organizations; The National Securities Clearing Corporation; Notice of Filing and Immediate Effectiveness of Proposed Rule Change To Support the Processing of Instructions for the Transfer or Reallocation of Underlying Investment Options Within a Variable Insurance Contract

June 27, 2008.

Correction

In FR Doc. No. E8-15251, beginning on page 38479 for Monday, July 7, 2008, the date for this release should be as set forth above.

Dated: July 21, 2008,
Florence E. Harmon,
Acting Secretary.

[FR Doc. E8-16933 Filed 7-23-08; 8:45 am]

BILLING CODE 8010-01-P